DEPARTMENT OF HEALTH AND HUMAN SERVICES

Centers for Disease Control and Prevention

Potential Health Effects Involving Use of Perchloroethylene; Notice of Meeting

National Institute for Occupational Safety and Health (NIOSH) of the Centers for Disease Control and Prevention (CDC) announces the following meeting:

Name: Potential Health Effects Involving Use of Perchloroethylene (PCE) in Dry-cleaning and Other Industries: Scientific Presentations and Information-gathering Meeting.

Time and Date: 9 a.m.-5 p.m., September 25, 2002.

Place: Alice Hamilton Building, Conference Room C, NIOSH, CDC, 5555 Ridge Avenue, Cincinnati, Ohio 45213.

Status: Forum will include scientists and representatives from various government agencies and independent groups, and is open to the public, limited only by the space available. The meeting room accommodates 80 people. Due to limited space, notification of intent to attend the meeting must be made with Judy Curless no later than September 13, 2002. Ms. Curless can be reached by telephone at 513/533-8314 or by e-mail jcc4@cdc.gov. Requests to attend will be accommodated on a first come basis.

Purpose: To discuss current research with PCE and identify partners for exchange of information and data on occupational exposure to PCE and potential health effects. A panel of invited participants will present data. Presentations and discussion will focus on health effects related to occupational exposures to PCE as well as data from studies of carcinogenicity and other effects in animals. The public is invited to attend and will have the opportunity to provide comments.

Contact Person for General Information: Judy Curless, Education and Information Division, NIOSH, CDC, 4676 Columbia Parkway, MS C-32, Cincinnati, Ohio 45226, telephone 513/533-8314, fax 513/533-8230, e-mail jcc4@cdc.gov.

Contact Person for Technical Information: Thomas Lentz, Education and Information Division, NIOSH, CDC, 4676 Columbia Parkway, MS C-32, Cincinnati, Ohio 45226, telephone 513/533-8260, fax 513/533-8230, e-mail tbl7@cdc.gov.

Written research, data, or supporting materials to be considered in support of the information gathering effort should be submitted to the NIOSH Docket Office, ATTN: Diane Miller, Robert A. Taft Laboratories, M/S C-34, 4676 Columbia Parkway, Cincinnati, Ohio 45226, telephone 513/533-8450, fax 513/533-8285. Comments may also be submitted by e-mail to: NIOCINDOCKET@CDC.GOV. E-mail attachments should be formatted as WordPerfect 6/7/8/9, or Microsoft Word. Comments should be submitted to NIOSH no later than November 15, 2002, and should reference docket number NIOSH-007 in the subject heading.

The Director, Management Analysis and Services Office, has been delegated the authority to sign Federal Register Notices pertaining to announcements of meetings and other committee management activities, for both the Centers for Disease Control and Prevention and the Agency for Toxic Substances and Disease Registry.

Dated: August 15, 2002.
Joseph E. Salter,
Acting Director, Management Analysis and Services Office, Centers for Disease Control and Prevention.

[FR Doc. 02-21252 Filed 8-20-02; 8:45 am]

BILLING CODE 4163-18-P